DEPARTMENT OF COMMERCE

International Trade Administration

Cancellation of a Meeting of the U.S. Automotive Parts Advisory Committee

AGENCY: International Trade Administration, Department of Commerce.

ACTION: Notice.

SUMMARY: The closed meeting of the U.S. Automotive Parts Advisory Committee (APAC) originally scheduled for February 27, 2002 at the U.S. Department of Commerce has been canceled due to schedule conflicts.

Federal Register Citation of Previous Announcement: 67 FR 6498-6499, Feb. 12, 2002.

Previously Announced Date of the Meeting: February 27, 2002.

FOR FURTHER INFORMATION CONTACT: Dr. Robert Reck, U.S. Department of Commerce, Room 4036, Washington, DC 20230, telephone: 202-482-1418.

SUPPLEMENTARY INFORMATION: The U.S. Automotive Parts Advisory Committee (the “Committee”) advises U.S. Government officials on matters relating to the implementation of the Fair Trade in Automotive Parts Act of 1998 (Pub. L. 105-261). The Committee: (1) Reports to the Secretary of Commerce on barriers to sales of U.S.-made automotive parts and accessories in Japanese and other Asian markets; (2) reviews and considers data collected on sales of U.S.-made auto parts and accessories in Japanese and other Asian markets; (3) advises the Secretary of Commerce during consultations with other Governments on issues concerning sales of U.S.-made automotive parts in Japanese and other Asian markets; and (4) assists in establishing priorities for the initiative to increase sales of U.S.-made auto parts and accessories to Japanese markets, and otherwise provide assistance and direction to the Secretary of Commerce in carrying out the intent of that section; and (5) assists the Secretary of Commerce in reporting to Congress by submitting an annual written report to the Secretary on the sale of U.S.-made automotive parts in Japanese and other Asian markets, as well as any other issues with respect to which the Committee provides advice pursuant to its authorizing legislation.

Dated: February 20, 2002.
Henry Misisco,
Director, Office of Automotive Affairs.

[FR Doc. 02-4460 Filed 2-25-02; 8:45 am]

BILLING CODE 3510-DR-P